ENVIRONMENTAL PROTECTION AGENCY

[FRL-10509-01-OA]

Local Government Advisory Committee (LGAC) Meeting

AGENCY: Environmental Protection Agency (EPA).

ACTION: Notification of public meeting.

SUMMARY: Pursuant to the Federal Advisory Committee Act (FACA), EPA herby provides notice of a meeting for the Local Government Advisory Committee (LGAC) on the date and time described below. This meeting will be open to the public. For information on public attendance and participation, please see the registration information under SUPPLEMENTARY INFORMATION.

DATES: The LGAC will meet virtually January 13th, 2023, from 11:30 a.m. through 12:30 p.m. Eastern Standard Time.

FOR FURTHER INFORMATION CONTACT: Paige Lieberman, Designated Federal Officer (DFO), at LGAC@epa.gov or 202-564-9957.

Information on Accessibility: For information on access or services for individuals requiring accessibility accommodations, please contact Paige Lieberman by email at LGAC@epa.gov. To request accommodation, please do so five (5) business days prior to the meeting, to give EPA as much time as possible to process your request.

SUPPLEMENTARY INFORMATION: The LGAC has been deliberating on the following sections of the Inflation Reduction Act and will discuss and vote on draft recommendations for each at this meeting.

Topic One: Climate Pollution Reduction Grants

EPA received $5 billion to assist states, air pollution control agencies, tribes and local governments to develop and implement strong, climate pollution reduction strategies. These eligible entities can apply for planning grants and then apply for grants to implement those plans. This is a new program that will be informed by comments received via this request for public comment in addition to other stakeholder engagement activities that the Agency will be conducting consistent with its Grant Competition policy.

Topic Two: Clean Heavy-Duty Vehicles

EPA received $4 billion for two new programs to reduce emissions from the transportation sector. The first program is the Clean Heavy-Duty Vehicle program that will invest $1 billion to help cover the costs of replacing dirty heavy-duty vehicles with clean alternatives, deploy supporting infrastructure, and/or train and develop the necessary workforce. At least $400 million must go to nonattainment areas. The application is open to states, municipalities, Indian tribes, nonprofit school transportation associations, and eligible contractors.

All interested persons are invited to attend and participate. The LGAC will hear comments from the public from approximately 12:20-12:30 p.m. (EDT). Individuals or organizations wishing to address the Committee or Subcommittee will be allowed a maximum of five (5) minutes to present their point of view. Also, written comments should be submitted electronically to LGAC@epa.gov for the LGAC and SCAS. Please contact the DFO at the email listed under FOR FURTHER INFORMATION CONTACT to schedule a time on the agenda by January 12, 2023. Time will be allotted on a first-come first-served basis, and the total period for comments may be extended if the number of requests for appearances requires it.

Registration: The meeting will be held virtually through an online audio and video platform. Members of the public who wish to participate should register by contacting the Designated Federal Officer (DFO) at LGAC@epa.gov by January 12, 2023. The agenda and other supportive meeting materials will be available online at https://www.epa.gov/ocir/local-government-advisory-committee-lgac and will be emailed to all registered. In the event of cancellation for unforeseen circumstances, please contact the DFO or check the website above for reschedule information.

Dated: December 19, 2022.
Paige Lieberman,
Designated Federal Officer, Local Government Advisory Council, Office of Congressional and Intergovernmental Relations.

[FR Doc. 2022-27860 Filed 12-21-22; 8:45 am]

BILLING CODE 6560-50-P